DEPARTMENT OF ENERGY

Federal Energy Regulatory Commission

Combined Notice of Filings #1

Take notice that the Commission received the following electric rate filings:

Docket Numbers: ER16-1758-002.

Applicants: Midcontinent Independent System Operator, Inc.

Description: Compliance filing: 2016-12-09_Addtl compliance re revisions to SSR tariff provisions to be effective 8/22/2016.

Filed Date: 12/9/16.

Accession Number: 20161209-5084.

Comments Due: 5 p.m. ET 12/30/16.

Docket Numbers: ER17-382-000.

Applicants: CED Ducor Solar 1, LLC.

Description: Report Filing: Supplement to Market-Based Rate Application to be effective N/A.

Filed Date: 12/9/16.

Accession Number: 20161209-5087.

Comments Due: 5 p.m. ET 12/30/16.

Docket Numbers: ER17-383-000.

Applicants: CED Ducor Solar 2, LLC.

Description: Report Filing: Supplement to Market-Based Rate Application to be effective N/A.

Filed Date: 12/9/16.

Accession Number: 20161209-5088.

Comments Due: 5 p.m. ET 12/30/16.

Docket Numbers: ER17-384-000.

Applicants: CED Ducor Solar 3, LLC.

Description: Report Filing: Supplement to Market-Based Rate Application to be effective N/A.

Filed Date: 12/9/16.

Accession Number: 20161209-5089.

Comments Due: 5 p.m. ET 12/30/16.

Docket Numbers: ER17-505-000.

Applicants: Hydro-Quebec Energy Services (U.S.) Inc.

Description: Request for Limited Waiver of H.Q. Energy Services (U.S.) Inc.

Filed Date: 12/7/16.

Accession Number: 20161207-5207.

Comments Due: 5 p.m. ET 12/21/16.

Docket Numbers: ER17-510-000.

Applicants: PJM Interconnection, L.L.C.

Description: 205(d) Rate Filing: Queue Position NQ127, Original Service Agreement No. 4586 to be effective 2/8/2017.

Filed Date: 12/8/16.

Accession Number: 20161208-5138.

Comments Due: 5 p.m. ET 12/29/16.

Docket Numbers: ER17-511-000.

Applicants: Weyerhaeuser NR Company.

Description: Notice of Cancellation of market-based rate tariff, et al. of Weyerhaeuser NR Company.

Filed Date: 12/8/16.

Accession Number: 20161208-5151.

Comments Due: 5 p.m. ET 12/29/16.

Docket Numbers: ER17-512-000.

Applicants: Virginia Electric and Power Company.

Description: Compliance filing: Baseline—Rate Schedule FERC No. 134 to be effective 9/1/2006.

Filed Date: 12/9/16.

Accession Number: 20161209-5001.

Comments Due: 5 p.m. ET 12/30/16.

Docket Numbers: ER17-513-000.

Applicants: Alabama Power Company.

Description: 205(d) Rate Filing: PowerSouth NITSA Amendment Filing (Add Burkville Delivery Point) to be effective 11/9/2016.

Filed Date: 12/9/16.

Accession Number: 20161209-5086.

Comments Due: 5 p.m. ET 12/30/16.

Docket Numbers: ER17-514-000.

Applicants: Alabama Power Company.

Description: 205(d) Rate Filing: Amendment of Southern's Tariff Volume No. 4 to be effective 2/8/2017.

Filed Date: 12/9/16.

Accession Number: 20161209-5103.

Comments Due: 5 p.m. ET 12/30/16.

Docket Numbers: ER17-515-000.

Applicants: PacifiCorp.

Description: 205(d) Rate Filing: BPA NITSA (SE Idaho Area) Rev 2 to be effective 12/1/2016.

Filed Date: 12/9/16.

Accession Number: 20161209-5104.

Comments Due: 5 p.m. ET 12/30/16.

Docket Numbers: ER17-516-000.

Applicants: Pacific Gas and Electric Company.

Description: 205(d) Rate Filing: Transmission Access Charge Balancing Account Adjustment (TACBAA) 2017 to be effective 3/1/2017.

Filed Date: 12/9/16.

Accession Number: 20161209-5121.

Comments Due: 5 p.m. ET 12/30/16.

Docket Numbers: ER17-517-000.

Applicants: Midcontinent Independent System Operator, Inc., Great River Energy, Northern States Power Company, a Minnesota corporation.

Description: 205(d) Rate Filing: 2016-12-09_SA 2980 Northern States Power-Great River Energy TIA (Quarry) to be effective 12/10/2016.

Filed Date: 12/9/16.

Accession Number: 20161209-5183.

Comments Due: 5 p.m. ET 12/30/16.

Docket Numbers: ER17-518-000.

Applicants: Midcontinent Independent System Operator, Inc., Northern States Power Company, a Minnesota corporation, Great River Energy.

Description: 205(d) Rate Filing: 2016-12-09_SA 2981 Northern States Power-Great River Energy TIA (St. Bonifacius) to be effective 12/10/2016.

Filed Date: 12/9/16.

Accession Number: 20161209-5185.

Comments Due: 5 p.m. ET 12/30/16.

Take notice that the Commission received the following public utility holding company filings:

Docket Numbers: PH17-4-001.

Applicants: Starwood Energy Group Global, L.L.C.

Description: Starwood Energy Group Global, L.L.C. submits FERC 65-B Material Change in Facts of Waiver Notification.

Filed Date: 12/9/16.

Accession Number: 20161209-5082.

Comments Due: 5 p.m. ET 12/30/16.

Take notice that the Commission received the following qualifying facility filings:

Docket Numbers: QF16-1069-000.

Applicants: AEP OnSite Partners, LLC.

Description: Refund Report of AEP OnSite Partners, LLC [Clyde].

Filed Date: 12/8/16.

Accession Number: 20161208-5178.

Comments Due: 5 p.m. ET 12/29/16.

Take notice that the Commission received the following electric reliability filings:

Docket Numbers: RR17-2-000.

Applicants: North American Electric Reliability Corporation.

Description: Petition of the North American Electric Reliability Corporation for Approval of Proposed Revisions to the Rules of Procedure.

Filed Date: 12/9/16.

Accession Number: 20161209-5094.

Comments Due: 5 p.m. ET 12/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2016.
Nathaniel J. Davis, Sr.,
Deputy Secretary.

[FR Doc. 2016-30165 Filed 12-14-16; 8:45 am]

BILLING CODE 6717-01-P